DEPARTMENT OF THE TREASURY

Internal Revenue Service

Open Meeting of the Taxpayer Advocacy Panel, E-Filing Issue Committee

AGENCY: Internal Revenue Service (IRS), Treasury.

ACTION: Notice.

SUMMARY: An open meeting of the E-Filing Issue Committee of the Taxpayer Advocacy Panel will be conducted. The Taxpayer Advocacy Panel is soliciting public comments, ideas, and suggestions on improving customer service at the Internal Revenue Service.

DATES: The meeting will be held Sunday, March 28, 2004, from 8 am to 4 pm Central Standard Time.

FOR FURTHER INFORMATION CONTACT: Mary Ann Delzer at 1-888-912-1227, or 414-297-1604.

SUPPLEMENTARY INFORMATION: Notice is hereby given pursuant to section 10(a)(2) of the Federal Advisory Committee Act, 5 U.S.C. App. (1988) that an open meeting of the Taxpayer Advocacy Panel, E-Filing Issue Committee will be held Sunday, March 28, 2004, from 8 am to 4 pm Central standard time, at the Renaissance Dallas North Hotel, 4099 Valley View Lane, Dallas, TX, 75244. You can submit written comments to the panel by faxing to (414) 297-1623, or by mail to Taxpayer Advocacy Panel, Stop 1006-MIL, 310 West Wisconsin Avenue, Milwaukee, WI 53203-2221, or you can contact us at http://www.improveirs.org. Public comments will also be welcome during the meeting.

The agenda will include the following: Various IRS issues.

Dated: February 23, 2004.
Bernard Coston,
Director, Taxpayer Advocacy Panel.

[FR Doc. 04-4403 Filed 2-26-04; 8:45 am]

BILLING CODE 4830-01-P